ENVIRONMENTAL PROTECTION AGENCY

[OEI-2002-0012, OEI-2002-0013, OEI-2002-0014; FRL-7454-2]

Agency Information Collection Activities; Submission of EPA ICR No. 1039.10 OMB Control No. 2030-0005, EPA ICR No. 1037.07, OMB Control No. 2030-0007, and EPA ICR No. 0246.08, OMB Control No. 2030-0016 to OMB for Review and Approval; Comment Request

AGENCY: Environmental Protection Agency (EPA).

ACTION: Notice.

SUMMARY: In compliance with the Paperwork Reduction Act (44 U.S.C. 3501 et seq.), this document announces that the following three continuing Information Collection Requests (ICRs) have been forwarded to the Office of Management and Budget (OMB) for review and approval: (1) Monthly Progress Reports, OMB Control No. 2030-0005, EPA ICR No. 1039.10, (2) Oral and Written Purchase Orders, OMB Control No. 2030-0007, EPA ICR No. 1037.07; and (3) Contractor Cumulative Claim and Reconciliation, OMB Control No. 2030-0016, EPA ICR No. 0246.08. The ICRs, which are abstracted below, describe the nature of the information collection and its estimated burden and cost.

DATES: Additional comments may be submitted on or before March 27, 2003.

ADDRESSES: Follow the detailed instructions in the SUPPLEMENTARY INFORMATION section.

FOR FURTHER INFORMATION CONTACT: Brian K. Long, Policy, Training and Oversight Division, Office of Acquisition Management, Mail Code: 3802-R, 202-564-4737, Environmental Protection Agency, 1200 Pennsylvania Ave., NW., Washington, DC 20460; telephone number: 202-564-4737; fax number: 202-565-2552; e-mail address: long.brian@epa.gov.

SUPPLEMENTARY INFORMATION: EPA has submitted the following individual continuing ICR to OMB for review and approval according to the procedures prescribed in 5 CFR 1320.12. On 07/26/02 (67 FR 48891), EPA sought comments on the ICRs pursuant to 5 CFR 1320.8(d). EPA received no comments.

EPA has established a public docket for these ICRs under Docket ID Nos. OEI-2002-0012 (Monthly Progress Reports), OEI-2002-0013 (Oral and Written Purchase Orders, and OEI-2002-0014 (Contractor Cumulative Claim and Reconciliation, which are available for public viewing at the Office of Environmental Information (OEI) Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OEI Docket is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to oei.docket.@epa.gov, or by mail to: EPA Docket Center, Environmental Protection Agency, Mail Code: 28221T, 1200 Pennsylvania Ave., NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Monthly Progress Reports (OMB Control No. 2030-0005, EPA ICR No. 1039.10). This is a request to renew an existing approved collection that is scheduled to expire on 02/28/03. Under the OMB regulations, the Agency may continue to conduct or sponsor the collection of information while this submission is pending at OMB.

Abstract: Agency contractors who have cost reimbursable, time and material, labor hour, or indefinite delivery/indefinite quantity fixed rate contracts will report the technical and financial progress of the contract on a monthly basis. EPA will use this information to monitor the contractor's progress under the contract. Responses to the information collection are mandatory for contractors performing under a cost reimbursement contract, and are required to receive monthly reimbursement. Information submitted is protected from public release in accordance with the Agency's confidentiality regulations, 40 CFR 2.201.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average about 36 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Contractors holding cost reimbursable contracts with EPA.

Estimated Number of Respondents: 324.

Frequency of Response: Monthly.

Estimated Total Annual Hour Burden: 140,940 hours.

Estimated Total Annual Cost: $10,403,160, of which $39,000 is Operational and Maintenance.

Changes in the Estimates: There is a decrease of 36,105 hours in the total estimated burden currently identified in the OMB Inventory of Approved ICR Burdens. This is due to a reduction in the total number of active contracts and corresponding responses than previously reported.

Title: Oral and Written Purchase Orders, (OMB Control No. 2030-0007, EPA ICR No. 1037.07). This is a request to renew an existing approved collection that is scheduled to expire on 02/28/03. Under the OMB regulations, the Agency may continue to conduct or sponsor the collection of information while this submission is pending at OMB.

Abstract: When EPA has a requirement for supplies or services and the value of same is under the simplified acquisition threshold, the Agency solicits verbal or written quotes from potential vendors. Vendor responses are voluntary and generally consist of item name, unit cost, delivery terms, company name, small business status, address, phone number, and point of contact. The Agency uses the collected information to make award decisions and obtain needed supplies and services.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 15 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Contractors who seek to provide supplies and services to the EPA under simplified acquisition procedures.

Estimated Number of Respondents: 28,462.

Frequency of Response: 1 per year.

Estimated Total Annual Hour Burden: 7,116 hours.

Estimated Total Annual Cost: $136,618.

Changes in the Estimates: There is a decrease of 2,257 hours in the total estimated burden currently identified in the OMB Inventory of Approved ICR Burdens. This decrease is solely due to the drop in the number of purchase orders awarded over $25,000. In addition, the number of purchase orders awarded with a value less than $2,500 have decreased slightly due to the use of the Government-wide commercial purchase cards.

Title: Contractor Cumulative Claim and Reconciliation, (OMB Control No. 2030-0016, EPA ICR No. 0246.08). This is a request to renew an existing approved collection that is scheduled to expire on 02/28/03. Under the OMB regulations, the Agency may continue to conduct or sponsor the collection of information while this submission is pending at OMB.

Abstract: At the completion of a cost reimbursement contract, contractors will report final costs, incurred, including direct labor, materials, supplies, equipment, and other direct charges, subcontracting, consultant fees, indirect costs, and fixed fee. Contractors will report this information on EPA Form 1900-10. This form will be used to reconcile the contractor's costs. Establishment of the final costs and fixed fee is necessary to close-out the contract, and is required to receive final payment. Information submitted is protected from public release in accordance with the Agency's confidentiality regulation, 40 CFR 2.201 et seq.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 40 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Contractors holding cost reimbursable contracts with the Agency.

Estimated Number of Respondents: 247.

Frequency of Response: Completion of contract.

Estimated Total Annual Hour Burden: 163 hours.

Estimated Total Annual Cost: $6,819 of which $2,470 is Operational and Maintenance.

Changes in the Estimates: There is an increase of 98 hours in the total estimated burden currently identified in the OMB Inventory of Approved ICR Burdens. The increase is solely due to the estimated number of information collected based on a large quantity of contracts closed out during FY 2002. EPA expects to continue to close out contracts at a high volume.

Dated: February 4, 2003.
Doreen Sterling,
Acting Director,
Collection Strategies Division.

[FR Doc. 03-4375 Filed 2-24-03; 8:45 am]

BILLING CODE 6560-50-P